DEPARTMENT OF COMMERCE

National Oceanic and Atmospheric Administration

[I.D. 122104B]

Marine Mammals; File No. 881-1758

AGENCY: National Marine Fisheries Service (NMFS), National Oceanic and Atmospheric Administration (NOAA), Commerce.

ACTION: Receipt of application.

SUMMARY: Notice is hereby given that the Alaska SeaLife Center (ASLC), 301 Railway Avenue, Seward, AK 99664, (Shannon Atkinson, Ph.D., Principal Investigator) has applied in due form for a permit to conduct scientific research on harbor seals (Phoca vitulina) undergoing rehabilitation.

DATES: Written or telefaxed comments must be received on or before January 28, 2005.

ADDRESSES: The application and related documents are available for review upon written request or by appointment in the following office(s):

Permits, Conservation and Education Division, Office of Protected Resources, NMFS, 1315 East-West Highway, Room 13705, Silver Spring, MD 20910; phone (301)713-2289; fax (301)427-2521; and

Alaska Region, NMFS, P.O. Box 21668, Juneau, AK 99802-1668; phone (907)586-7221; fax (907)586-7249.

Written comments or requests for a public hearing on either request should be submitted to the Chief, Permits, Conservation and Education Division, F/PR1, Office of Protected Resources, NMFS, 1315 East-West Highway, Room 13705, Silver Spring, MD 20910. Those individuals requesting a hearing should set forth the specific reasons why a hearing on the particular request would be appropriate.

Comments may also be submitted by facsimile at (301)427-2521, provided the facsimile is confirmed by hard copy submitted by mail and postmarked no later than the closing date of the comment period.

Comments may also be submitted by e-mail. The mailbox address for providing email comments is NMFS.Pr1Comments@noaa.gov. Include in the subject line of the email comment the following document identifier: File No. 881-1758.

FOR FURTHER INFORMATION CONTACT: Amy Sloan or Ruth Johnson, (301)713-2289.

SUPPLEMENTARY INFORMATION: The subject permit is requested under the authority of the Marine Mammal Protection Act of 1972, as amended (U.S.C. 1361 et seq.), and the Regulations Governing the Taking and Importing of Marine Mammals (50 CFR part 216).

The applicant proposes to study growth, development, and health of harbor seals throughout their residency in the ASLC Rehabilitation Program. Researchers would compare growth and health parameters of rehabilitated seals to permanently captive seals undergoing long-term dietary studies at the ASLC and to seals captured and sampled in the wild during other permitted studies.

In addition to conducting standard rehabilitation practices, researchers would collect blood, fecal, and urine samples; collect body composition measurements using bioelectrical impedance and deuterium oxide, sodium bromide, Evan's blue dye, and nitrogen administration followed by post-administration blood samples; conduct assimilation efficiency experiments to study metabolic development; and collect blubber biopsies to study fatty acid composition and contaminant loads. The applicant has requested a 5-year permit.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of this application to the Marine Mammal Commission and its Committee of Scientific Advisors.

Dated: December 23, 2004.
Jennifer Skidmore,
Acting Chief, Permits, Conservation and Education Division, Office of Protected Resources, National Marine Fisheries Service.

[FR Doc. 04-28540 Filed 12-28-04; 8:45 am]

BILLING CODE 3510-22-S